DEPARTMENT OF HOMELAND SECURITY

Federal Emergency Management Agency

44 CFR Part 67

[Docket ID FEMA-2010-0003; Internal Agency Docket No. FEMA-B-1122]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before August 23, 2010.

ADDRESSES: The corresponding preliminary Flood Insurance Rate Map (FIRM) for the proposed BFEs for each community is available for inspection at the community's map repository. The respective addresses are listed in the table below.

You may submit comments, identified by Docket No. FEMA-B-1122, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Fairbanks-North Star Borough, Alaska, and Incorporated Areas
Groundwater seepage from Tanana River and Chena River | An area north of the Tanana River levee and south of Mitchell Expressway from a point approximately 1,900 feet southwest of the intersection of Airport Dike Road and Airport Perimeter Road to the intersection of Airport Way and Mitchell Expressway | +431 | +432 | Fairbanks-North Star Borough.
| An area just north of and adjacent to Mitchell Expressway from the intersection of Peger Road and Mitchell Expressway to the east to approximately 930 feet southeast of the intersection of Old Airport Road and Mitchell Expressway to the west | None | +432-434
| An area north of the Tanana River levee and south of Mitchell Expressway from the intersection of Old Richardson Highway and Richardson Highway to a point approximately 1,800 feet south of the intersection of Lake View Terrace Road and Frontier Avenue | None | +446
| An area bound by Peger Road to the west, Eagan Avenue to the north, Lathrop Street to the east, and Mitchell Expressway to the south | None | +433-437
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Fairbanks-North Star Borough
Maps are available for inspection at the Borough Administrative Center, 809 Pioneer Road, Fairbanks, AK 99701.
Fayette County, Iowa, and Incorporated Areas
Otter Creek (City of Elgin) | Approximately 1,550 feet upstream of the bridge at Cedar Road | None | +804 | Unincorporated Areas of Fayette County.
| Approximately 80 feet downstream of the bridge at Mill Street | None | +831
Otter Creek (City of Oelwein) | Approximately 460 feet upstream of West Charles Street | None | +1004 | Unincorporated Areas of Fayette County.
| City of Oelwein/Fayette County (unincorporated areas) corporate limit approximately 1.4 mile upstream of Lake Oelwein Dam | None | +1019
Turkey River | Approximately 0.3 mile downstream of the Center Street Bridge | None | +802 | Unincorporated Areas of Fayette County.
| Approximately 1.6 mile upstream of the Center Street Bridge | None | +809
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Fayette County
Maps are available for inspection at the Fayette County Courthouse, 114 North Vine Street, West Union, IA 52175.
Henry County, Illinois, and Incorporated Areas
Geneseo Creek | Approximately 0.13 mile downstream of Elk Street | None | +615 | City of Geneseo, Unincorporated Areas of Henry County.
| Approximately 0.59 mile upstream of I-80 | None | +642
Rock River | Approximately 0.75 mile downstream of Hurd Road (in Whiteside County) | +583 | +584 | Unincorporated Areas of Henry County.
| Approximately 2.5 miles upstream of Hurd Road (in Whiteside County) | +583 | +585
Rock River | Approximately 1.04 mile upstream of I-80 | +578 | +577 | Village of Cleveland.
| Approximately 1.63 mile upstream of I-80 | +579 | +578
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Geneseo
Maps are available for inspection at City Hall, 101 South State Street, Geneseo, IL 61254.
Unincorporated Areas of Henry County
Maps are available for inspection at the Henry County Courthouse, 307 West Center Street, Cambridge, IL 61238.
Village of Cleveland
Maps are available for inspection at the Village Hall, 408 Jackson Street, Cleveland, IL 61241.
Jessamine County, Kentucky, and Incorporated Areas
East Hickman Creek Tributary 1 (Backwater effects from East Hickman Creek) | From the confluence with East Hickman Creek to approximately 580 feet upstream of the confluence with East Hickman Creek | None | +872 | Unincorporated Areas of Jessamine County.
Hickman Creek (Backwater effects from Kentucky River) | From the confluence with the Kentucky River to approximately 1.9 mile upstream of the confluence with the Kentucky River | None | +566 | Unincorporated Areas of Jessamine County.
Jessamine Creek (Backwater effects from Kentucky River) | From the confluence with the Kentucky River to approximately 0.9 mile upstream of the confluence with Jessamine Creek Tributary 9 | None | +559 | Unincorporated Areas of Jessamine County.
Jessamine Creek Tributary 9 (Backwater effects from Kentucky River) | From the confluence with Jessamine Creek to approximately 785 feet upstream of the confluence with Jessamine Creek | None | +559 | Unincorporated Areas of Jessamine County.
Kentucky River | Approximately 1,770 feet downstream of the confluence with Kentucky River Tributary 4 | +545 | +548 | Unincorporated Areas of Jessamine County.
| Approximately 2 miles upstream of the confluence with Marble Creek | +581 | +582
Kentucky River Tributary 2 (Backwater effects from Kentucky River) | From the confluence with the Kentucky River to approximately 1,445 feet upstream of River Road (KY-1541) | None | +573 | Unincorporated Areas of Jessamine County.
Kentucky River Tributary 4 (Backwater effects from Kentucky River) | From the confluence with the Kentucky River to approximately 0.4 mile upstream of the confluence with the Kentucky River | +545 | +548 | Unincorporated Areas of Jessamine County.
Kentucky River Tributary 33 (Backwater effects from Kentucky River) | From the confluence with the Kentucky River to approximately 1,900 feet upstream of the confluence with the Kentucky River | None | +569 | Unincorporated Areas of Jessamine County.
Kentucky River Tributary 83 (Backwater effects from Kentucky River) | From the confluence with the Kentucky River to approximately 1,320 feet upstream of the confluence with the Kentucky River | None | +576 | Unincorporated Areas of Jessamine County.
Left Branch Tributary to Town Fork | At the confluence with Tributary to Town Fork | None | +922 | Unincorporated Areas of Jessamine County, City of Nicholasville.
| Approximately 385 feet upstream of the confluence with Tributary to Town Fork | None | +923
Little Hickman Creek (Backwater effects from Kentucky River) | From the confluence with the Kentucky River to approximately 0.7 mile upstream of the confluence with the Kentucky River | None | +566 | Unincorporated Areas of Jessamine County.
Marble Creek (Backwater effects from Kentucky River) | From the confluence with the Kentucky River to approximately 0.5 mile upstream of the confluence with the Kentucky River | None | +580 | Unincorporated Areas of Jessamine County.
Tributary to Town Fork | At the confluence with Town Fork | None | +914 | City of Nicholasville, Unincorporated Areas of Jessamine County.
| Approximately 1,080 feet upstream of Miles Road | None | +927
West Hickman Creek Tributary 1 (Backwater effects from West Hickman Creek) | From the confluence with West Hickman Creek to approximately 90 feet upstream of West Hickman Plant Road | None | +884 | Unincorporated Areas of Jessamine County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Nicholasville
Maps are available for inspection at 517 North Main Street, Nicholasville, KY 40340.
Unincorporated Areas of Jessamine County
Maps are available for inspection at City Hall, 517 North Main Street, Nicholasville, KY 40356.
Ingham County, Michigan, and Incorporated Areas
Deer Creek | At CSX Railway | None | +864 | City of Williamston, Township of Wheatfield.
| Approximately 0.4 mile upstream of Wallace Street | None | +864
Moon and Hamilton County Drain | At Detention Area F Control Structure | *860 | +861 | City of Lansing.
| At I-96/69 | *868 | +863
Red Cedar River | Approximately 1.4 mile upstream of the upstream crossing at North Putnam Street | None | +868 | City of Williamston, Township of Leroy, Township of Locke, Township of Wheatfield, Township of Williamstown, Village of Webberville.
| At Grammer Road North | None | +875
Remey Chandler Drain/Sanderson Drain | Approximately 0.7 mile downstream of West Lake Lansing Road | None | +844 | City of East Lansing, Charter Township of Meridian.
| At West Lake Lansing Road | None | +844
Willow Creek | Approximately 1,250 feet upstream of U.S. Route 127 | None | +893 | Township of Vevay.
| Approximately 0.58 mile upstream of U.S. Route 127 | None | +893
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Charter Township of Meridian
Maps are available for inspection at Meridian Township Hall, 5151 Marsh Road, Okemos, MI 48864.
City of East Lansing
Maps are available for inspection at City Hall, 410 Abbott Road, East Lansing, MI 48823.
City of Lansing
Maps are available for inspection at City Hall, 124 West Michigan Avenue, Lansing, MI 48933.
City of Williamston
Maps are available for inspection at City Hall, 161 East Grand River Avenue, Williamston, MI 48895.
Township of Leroy
Maps are available for inspection at Leroy Township Hall, 315 West Walnut Street, Webberville, MI 48892.
Township of Locke
Maps are available for inspection at Locke Township Hall, 3805 Bell Oak Road, Williamston, MI 48895.
Township of Vevay
Maps are available for inspection at Vevay Township Hall, 780 South Eden Road, Mason, MI 48854.
Township of Wheatfield
Maps are available for inspection at Wheatfield Township Hall, 985 East Hold Road, Williamston, MI 48895.
Township of Williamstown
Maps are available for inspection at the Township Hall, 4990 North Zimmer Road, Williamston, MI 48895.
Village of Webberville
Maps are available for inspection at the Village Hall, 115 South Main Street, Webberville, MN 48892.
Attala County, Mississippi, and Incorporated Areas
Canal Creek | Approximately 700 feet downstream of Jefferson Street | +403 | +404 | City of Kosciusko.
| Approximately 500 feet downstream of Veterans Memorial Highway | +409 | +411
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Kosciusko
Maps are available for inspection at 222 East Washington Street, Kosciusko, MS 39090.
Wood County, Ohio, and Incorporated Areas
Crane Creek | Approximately 0.5 mile downstream of State Highway 51 | None | +609 | Unincorporated Areas of Wood County.
| At State Highway 51 | None | +609
Maumee River | At the Wood/Lucas county boundary | +577 | +579 | City of Rossford, Village of Grand Rapids.
| At the Wood/Henry county boundary | None | +649
North Branch Portage River | Approximately 1,000 feet downstream of Highway 6 | None | +668 | City of Bowling Green, Unincorporated Areas of Wood County.
| Approximately 1,650 feet upstream of State Highway 25 | None | +678
Rocky Ford Creek Tributary | Approximately 130 feet downstream of North Baltimore Road | None | +725 | Village of North Baltimore.
| Approximately 400 feet upstream of North Baltimore Road | None | +726
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Bowling Green
Maps are available for inspection at City Hall, 304 North Church Street, Bowling Green, OH 43402.
City of Rossford
Maps are available for inspection at City Hall, 133 Osborn Street, Rossford, OH 43460.
Unincorporated Areas of Wood County
Maps are available for inspection at the Wood County Office Building, 1 Courthouse Square, Bowling Green, OH 43402.
Village of Grand Rapids
Maps are available for inspection at the Village Hall, 17460 Sycamore Road, Grand Rapids, OH 43522.
Village of North Baltimore
Maps are available for inspection at the Village Hall, 205 North Main Street, North Baltimore, OH 45872.
Dillon County, South Carolina, and Incorporated Areas
Bear Swamp Creek | Just upstream of West 5th Avenue | None | +81 | Town of Lake View.
| Approximately 900 feet upstream of Cedar Street | None | +92
Little Pee Dee River | Approximately 1,200 feet upstream of the confluence with Maple Swamp | None | +85 | Unincorporated Areas of Dillon County.
| Approximately 1,600 feet upstream of State Route 9 | None | +87
Maple Swamp | At the confluence with the Little Pee Dee River | None | +85 | Town of Dillon, Unincorporated Areas of Dillon County.
| Approximately 200 feet upstream of the railroad | None | +104
Maple Swamp Tributary 5 | At the confluence with Maple Swamp | None | +106 | Town of Dillon, Unincorporated Areas of Dillon County.
| Approximately 1,400 feet upstream of Longstreet Road | None | +113
Reedy Creek Tributary 1 | Approximately 3,000 feet downstream of Academy Street | None | +88 | Town of Latta, Unincorporated Areas of Dillon County.
| Just upstream of the railroad | None | +103
Reedy Creek Tributary 2 | Approximately 2,000 feet downstream of West Academy Street | None | +93 | Town of Latta, Unincorporated Areas of Dillon County.
| Approximately 600 feet upstream of Manning View Road | None | +102
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Dillon County
Maps are available for inspection at 109 South 3rd Street, Dillon, SC 29536.
Town of Dillon
Maps are available for inspection at 401 West Main Street, Dillon, SC 29536.
Town of Lake View
Maps are available for inspection at 205 North Main Street, Lake View, SC 29563.
Town of Latta
Maps are available for inspection at 107 Northwest Railroad Avenue, Latta, SC 29565.
Jones County, Texas, and Incorporated Areas
Lake Fort Phantom Hill | Just downstream of County Highway 1082 | +1,641 | +1,642 | City of Abilene, Unincorporated Areas of Jones County.
| Approximately 300 feet downstream of County Road 341 | None | +1,656
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Abilene
Maps are available for inspection at City Hall, 555 Walnut Street, Abilene, TX 79601.
Unincorporated Areas of Jones County
Maps are available for inspection at the Jones County Courthouse, 1100 12th Street, Anson, TX 79501.

(Catalog of Federal Domestic Assistance No. 97.022, “Flood Insurance.”)

Dated: May 11, 2010.
Sandra K. Knight,
Deputy Federal Insurance and Mitigation Administrator, Mitigation, Department of Homeland Security, Federal Emergency Management Agency.

[FR Doc. 2010-12493 Filed 5-24-10; 8:45 am]

BILLING CODE 9110-12-P